DEPARTMENT OF ENERGY

Federal Energy Regulatory Commission

Combined Notice of Filings

Take notice that the Commission has received the following Natural Gas Pipeline Rate and Refund Report filings:

Docket Numbers: RP19-57-003.

Applicants: Algonquin Gas Transmission, LLC.

Description: Compliance filing AGT New York Delivery Surcharge 2020 Filing to be effective 1/1/2021.

Filed Date: 11/30/20.

Accession Number: 20201130-5215.

Comments Due: 5 p.m. ET 12/14/20.

Docket Numbers: RP20-908-002.

Applicants: Alliance Pipeline L.P.

Description: Compliance filing Motion to Place Suspended Revised Tariff Sheets into Effect to be effective 12/1/2020.

Filed Date: 11/30/20.

Accession Number: 20201130-5247.

Comments Due: 5 p.m. ET 12/14/20.

Docket Numbers: RP21-224-000.

Applicants: Trunkline Gas Company, LLC.

Description: eTariff filing per Withdrawal of Filing to be effective N/A.

Filed Date: 11/30/20.

Accession Number: 20201130-5205.

Comments Due: 5 p.m. ET 12/14/20.

Docket Numbers: RP21-259-000.

Applicants: East Tennessee Natural Gas, LLC.

Description: § 4(d) Rate Filing: Negotiated Rates—Various 12-1-2020 Releases to be effective 12/1/2020.

Filed Date: 11/30/20.

Accession Number: 20201130-5094.

Comments Due: 5 p.m. ET 12/14/20.

Docket Numbers: RP21-260-000.

Applicants: Transcontinental Gas Pipe Line Company, LLC.

Description: § 4(d) Rate Filing: Negotiated Rates—Cherokee AGL—Replacement Shippers—Dec 2020 to be effective 12/1/2020.

Filed Date: 11/30/20.

Accession Number: 20201130-5096.

Comments Due: 5 p.m. ET 12/14/20.

Docket Numbers: RP21-261-000.

Applicants: Enable Mississippi River Transmission, LLC.

Description: § 4(d) Rate Filing: MRT Filing to Correct Tariff Record to be effective 12/1/2020.

Filed Date: 11/30/20.

Accession Number: 20201130-5115.

Comments Due: 5 p.m. ET 12/14/20.

Docket Numbers: RP21-262-000.

Applicants: Tennessee Gas Pipeline Company, LLC.

Description: § 4(d) Rate Filing: Volume No. 2—BP Energy Company SP336421 to be effective 1/1/2021.

Filed Date: 11/30/20.

Accession Number: 20201130-5128.

Comments Due: 5 p.m. ET 12/14/20.

Docket Numbers: RP21-263-000.

Applicants: Northern Natural Gas Company.

Description: § 4(d) Rate Filing: 20201130 Negotiated Rates to be effective 12/1/2020.

Filed Date: 11/30/20.

Accession Number: 20201130-5148.

Comments Due: 5 p.m. ET 12/14/20.

Docket Numbers: RP21-264-000.

Applicants: Algonquin Gas Transmission, LLC.

Description: § 4(d) Rate Filing: AGT Negotiated Rates—Various Releases eff 12-1-2020 to be effective 12/1/2020.

Filed Date: 11/30/20.

Accession Number: 20201130-5212.

Comments Due: 5 p.m. ET 12/14/20.

Docket Numbers: RP21-265-000.

Applicants: Northern Natural Gas Company.

Description: § 4(d) Rate Filing: 20201112 Carlton and DDVC Tariff Changes to be effective 1/1/2021.

Filed Date: 11/30/20.

Accession Number: 20201130-5218.

Comments Due: 5 p.m. ET 12/14/20.

Docket Numbers: RP21-266-000.

Applicants: Columbia Gas Transmission, LLC.

Description: § 4(d) Rate Filing: TCO SWN & CNX NC Neg Rate Agreement to be effective 1/1/2021.

Filed Date: 11/30/20.

Accession Number: 20201130-5224.

Comments Due: 5 p.m. ET 12/14/20.

Docket Numbers: RP21-267-000.

Applicants: Rockies Express Pipeline LLC.

Description: § 4(d) Rate Filing: REX 2020-11-30 Negotiated Rate Agreements to be effective 12/1/2020.

Filed Date: 11/30/20.

Accession Number: 20201130-5248.

Comments Due: 5 p.m. ET 12/14/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 1, 2020.
Kimberly D. Bose,
Secretary.

[FR Doc. 2020-26822 Filed 12-4-20; 8:45 am]

BILLING CODE 6717-01-P